DEPARTMENT OF THE INTERIOR

National Park Service

[NPS-WASO-NRNHL-18041; PPWOCRADI0, PCU00RP14.R50000]

National Register of Historic Places; Notification of Pending Nominations and Related Actions

Nominations for the following properties being considered for listing or related actions in the National Register were received by the National Park Service before March 28, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by May 5, 2015. Before including your address, phone number, email address, or other personal identifying information in your comment, you should be aware that your entire comment—including your personal identifying information—may be made publicly available at any time. While you can ask us in your comment to withhold your personal identifying information from public review, we cannot guarantee that we will be able to do so.

Dated: April 6, 2015.
J. Paul Loether,
Chief, National Register of Historic Places/National Historic Landmarks Program.

ARKANSAS

Garland County

Federal Building—U.S. Post Office and Court House, 100 Reserve St., Hot Springs, 15000205

Phillips County

Federal Building—United States Post Office and Court House, 617 Walnut, Helena, 15000204

Pulaski County

Federal Building, 700 W. Capitol Ave., Little Rock, 15000206

FLORIDA

Alachua County

Axline House, 18507 S. Cty. Rd. 325, Hawthorne, 15000207

Gulf County

Cape San Blas Lighthouse at Port St. Joe, 200 Miss Zola's Dr., Port St. Joe, 15000208

Seminole County

Hopper Academy, 1101 Pine Ave., Sanford, 15000209

Taylor County

First Methodist Episcopal Church, South, 302 N. Jefferson St., Perry, 15000210

MASSACHUSETTS

Hampshire County

Old Chapel, 144 Hicks Way, Amherst, 15000211

MINNESOTA

Grant County

Scofield, Anna J. Memorial Auditorium and Harold E. Thorson Memorial Library, (Federal Relief Construction in Minnesota MPS), 117 Central Ave., N., Elbow Lake, 15000212

Hennepin County

Prospect Park Residential Historic District, Roughly bounded by University & Williams Aves., SE., Emerald St., SE., and I-94, Minneapolis, 15000213

St. Louis County

Duluth Masonic Temple, (Duluth's Central Business District, MPS), 4 W. 2nd St., Duluth, 15000215

MISSOURI

Platte County

Johnston, Stephen, House, 14850 N. Bethel Rd., Platte City, 15000214

MONTANA

Ravalli County

Hayward Lodge, On L. Como, Darby, 15000216

PENNSYLVANIA

Allegheny County

Duquesne Brewing Company, Roughly bounded by S. 21st, S. 23rd & Jane Sts., Harcum & Edwards Ways, Pittsburgh, 15000217

Penn—McKee Hotel, 122 5th Ave., McKeesport, 15000218

Philadelphia County

Wyoming Central Office of the Bell Telephone Company, 4900 N. Broad St., Philadelphia, 15000219

[FR Doc. 2015-08936 Filed 4-17-15; 8:45 am]

BILLING CODE 4312-51-P